DEPARTMENT OF THE INTERIOR

Bureau of Ocean Energy Management

Notice on Outer Continental Shelf Oil and Gas Lease Sales

AGENCY: Bureau of Ocean Energy Management (BOEM), Interior.

ACTION: List of restricted joint bidders.

SUMMARY: Pursuant to the authority vested in the Director of the Bureau of Ocean Energy Management by the joint bidding provisions of 30 CFR 556.41, each entity within one of the following groups shall be restricted from bidding with any entity in any other of the following groups at Outer Continental Shelf oil and gas lease sales to be held during the bidding period May 1, 2012, through October 31, 2012. The List of Restricted Joint Bidders published in the Federal Register on November 2, 2011, covered the period November 1, 2011, through April 30, 2012.

Group I.

Exxon Mobil Corporation

ExxonMobil Exploration Company

Group II.

Shell Oil Company

Shell Offshore Inc.

SWEPI LP

Shell Frontier Oil & Gas Inc.

SOI Finance Inc.

Shell Gulf of Mexico Inc.

Group III.

BP America Production Company

BP Exploration & Production Inc.

BP Exploration (Alaska) Inc.

Group IV.

Chevron Corporation

Chevron U.S.A. Inc.

Chevron Midcontinent, L.P.

Unocal Corporation

Union Oil Company of California

Pure Partners, L.P.

Group V.

ConocoPhillips Company

ConocoPhillips Alaska, Inc.

Phillips Pt. Arguello Production Company

Burlington Resources Oil & Gas Company LP

Burlington Resources Offshore Inc.

The Louisiana Land and Exploration Company

Inexeco Oil Company

Group VI.

Statoil ASA

Statoil Gulf of Mexico LLC

Statoil USA E&P Inc.

Statoil Gulf Properties Inc.

Group VII.

Petrobras America Inc.

Petroleo Brasileiro S.A.

Group VIII. Total E&P USA, Inc.

Dated: April 6, 2012.
Tommy P. Beaudreau,
Director, Bureau of Ocean Energy Management.

[FR Doc. 2012-10100 Filed 4-25-12; 8:45 am]

BILLING CODE 4310-VH-P